SMALL BUSINESS ADMINISTRATION

[Declaration of Disaster #3609]

State of Louisiana

Morehouse Parish and the contiguous parishes of Ouachita, Richland, Union, and West Carroll in the State of Louisiana; and Ashley, Chicot, and Union Counties in the State of Arkansas constitute a disaster area due to severe thunderstorms and flooding that occurred on July 17 through July 18, 2004. Applications for loans for physical damage as a result of this disaster may be filed until the close of business on October 11, 2004 and for economic injury until the close of business on May 10, 2005 at the address listed below or other locally announced locations: U.S. Small Business Administration, Disaster Area 3 Office, 14925 Kingsport Road, Fort Worth, TX 76155-2243.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The numbers assigned to this disaster for physical damage are 360906 for Louisiana and 361006 for Arkansas. The numbers assigned to this disaster for economic injury are 9ZO300 for Louisiana and 9ZO400 for Arkansas.

(Catalog of Federal Domestic Assistance Program Nos. 59002 and 59008)

Dated: August 10, 2004.
Hector V. Barreto,
Administrator.

[FR Doc. 04-18882 Filed 8-17-04; 8:45 am]

BILLING CODE 8025-01-P